DEPARTMENT OF COMMERCE

[I.D. 072902A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska License Limitation Program for Groundfish, Crab, and Scallops.

Form Number(s): None.

OMB Approval Number: 0648-0334.

Type of Request: Regular submission.

Burden Hours: 544.

Number of Respondents: 244.

Average Hours Per Response: 1 hour for a transfer application; 4 hours for an appeal.

Needs and Uses: NOAA is seeking renewed Paperwork Reduction Act clearance for requirements currently cleared under OMB Numbers 0648-0420 (scallops) and 0648-0334 (groundfish and crab), but proposes to merge these requirements under the latter number. This collection now supports License Limitation Permit transfer activities for crab, scallops, and groundfish, and any appeals resulting from denied actions. The information is submitted to respond to requirements set forth in regulations at 50 CFR part 679.4. Paper applications are required from participants, and methods of submittal include facsimile transmission or mailing of paper forms.

Affected Public: Business or other for-profit organizations, individuals or households.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 25, 2002.
Madeleine Clayton,
Departmental Paperwork Clearance Officer, Office of the Chief Information Officer.

[FR Doc. 02-19426 Filed 7-31-02; 8:45 am]

BILLING CODE 3510-22-S